COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

COMMENTS MUST BE RECEIVED ON OR BEFORE: May 13, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-ODay Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Load Carriage System, 8415-00-NSH-0622.

NPA: Chautauqua County Chapter, NYSARC, Jamestown, New York.

Contract Activity: U.S. Army Robert Morris Acquisition Center.

Product/NSN: Load Carriage System Pockets/Pocket, Magazine, M-4, Double, CQB, 8415-00-NSH-0600.

NPA: Chautauqua County Chapter, NYSARC, Jamestown, New York.

Contract Activity: U.S. Army Robert Morris Acquisition Center.

Product/NSN: Load Carriage System Pockets/Pocket, Flashbang, Single, 8415-00-NSH-0601.

NPA: Chautauqua County Chapter, NYSARC, Jamestown, New York.

Contract Activity: U.S. Army Robert Morris Acquisition Center.

Product/NSN: Load Carriage System Pockets/Pocket, Magazine, .45 ACP Single, CQB, 8415-00-NSH-0602.

NPA: Chautauqua County Chapter, NYSARC, Jamestown, New York.

Contract Activity: U.S. Army Robert Morris Acquisition Center.

Product/NSN: Load Carriage System Pockets/Carrier, Advanced Squad Demolition Kit, 8415-00-NSH-0603.

NPA: Chautauqua County Chapter, NYSARC, Jamestown, New York.

Contract Activity: U.S. Army Robert Morris Acquisition Center.

Product/NSN: Load Carriage System Pockets/Pocket, Magazine, Barrett .50, Single, 8415-00-NSH-0604.

NPA: Chautauqua County Chapter, NYSARC, Jamestown, New York.

Contract Activity: U.S. Army Robert Morris Acquisition Center.

Product/NSN: Load Carriage System Pockets/Pocket, Magazine, SR-25/M-14, Double, 8415-00-NSH-0605.

NPA: Chautauqua County Chapter, NYSARC, Jamestown, New York.

Contract Activity: U.S. Army Robert Morris Acquisition Center.

Product/NSN: Load Carriage System Pockets/Panel, 12 Gauge Shotgun, 16 shell, 8415-00-NSH-0606.

NPA: Chautauqua County Chapter, NYSARC, Jamestown, New York.

Contract Activity: U.S. Army Robert Morris Acquisition Center.

Product/NSN: Load Carriage System Pockets/Pocket, Radio, Sabre, 8415-00-NSH-0607.

NPA: Chautauqua County Chapter, NYSARC, Jamestown, New York.

Contract Activity: U.S. Army Robert Morris Acquisition Center.

Product/NSN: Load Carriage System Pockets/Pocket, Radio, AN/PRC-126, 8415-00-NSH-0608.

NPA: Chautauqua County Chapter, NYSARC, Jamestown, New York.

Contract Activity: U.S. Army Robert Morris Acquisition Center.

Product/NSN: Load Carriage System Pockets/Pocket, Radio, Multi-band Internal Team Radio, 8415-00-NSH-0609.

NPA: Chautauqua County Chapter, NYSARC, Jamestown, New York.

Contract Activity: U.S. Army Robert Morris Acquisition Center.

Product/NSN: Load Carriage System Pockets/Pocket, Sea MKII, 8415-00-NSH-0611.

NPA: Chautauqua County Chapter, NYSARC, Jamestown, New York.

Contract Activity: U.S. Army Robert Morris Acquisition Center.

Product/NSN: Load Carriage System Pockets/Suspenders, Sub-belt, 8415-00-NSH-0612.

NPA: Chautauqua County Chapter, NYSARC, Jamestown, New York.

Contract Activity: U.S. Army Robert Morris Acquisition Center.

Product/NSN: Load Carriage System Pockets/Pocket, Shotgun Launched Riot Control Canister, 8415-00-NSH-0613.

NPA: Chautauqua County Chapter, NYSARC, Jamestown, New York.

Contract Activity: U.S. Army Robert Morris Acquisition Center.

Product/NSN: Load Carriage System Pockets/Pocket, Administrative, 8415-00-NSH-0614.

NPA: Chautauqua County Chapter, NYSARC, Jamestown, New York.

Contract Activity: U.S. Army Robert Morris Acquisition Center.

Product/NSN: Load Carriage System Pockets/Panel, Drop Leg, 8415-00-NSH-0615.

NPA: Chautauqua County Chapter, NYSARC, Jamestown, New York.

Contract Activity: U.S. Army Robert Morris Acquisition Center.

Product/NSN: Load Carriage System Pockets/Sling, M-240, Padded, Quick Release Weapon/General Purpose, 8415-00-NSH-0616.

NPA: Chautauqua County Chapter, NYSARC, Jamestown, New York.

Contract Activity: U.S. Army Robert Morris Acquisition Center.

Product/NSN: Load Carriage System Pockets/Insert, Medical, Trauma, Ranger, 8415-00-NSH-0617.

NPA: Chautauqua County Chapter, NYSARC, Jamestown, New York.

Contract Activity: U.S. Army Robert Morris Acquisition Center.

Product/NSN: Load Carriage System Pockets/Attachment, Tripod Sling, M-240, 8415-00-NSH-0618.

NPA: Chautauqua County Chapter, NYSARC, Jamestown, New York.

Contract Activity: U.S. Army Robert Morris Acquisition Center.

Product/NSN: Load Carriage System Pockets/Carrier, 3 Mag, M-4A1, Assault, 8415-00-NSH-0619.

NPA: Chautauqua County Chapter, NYSARC, Jamestown, New York.

Contract Activity: U.S. Army Robert Morris Acquisition Center.

Product/NSN: Load Carriage System Pockets/Modular Assault Pack (MAP), 8415-00-NSH-0620.

NPA: Chautauqua County Chapter, NYSARC, Jamestown, New York.

Contract Activity: U.S. Army Robert Morris Acquisition Center.

Product/NSN: Load Carriage System Pockets/Load Carriage System Bag, 8415-00-NSH-0621.

NPA: Chautauqua County Chapter, NYSARC, Jamestown, New York.

Contract Activity: U.S. Army Robert Morris Acquisition Center.

Services

Service Type/Location: Administrative Services, Service School Command, Great Lakes, Illinois.

NPA: GWS, Inc., Waukegan, Illinois.

Contract Activity: FISC Norfolk, Detachment Philadelphia.

Service Type/Location: Janitorial/Custodial, U.S. Army Reserve Center, Whitehall, Ohio.

NPA: Licking-Knox Goodwill Industries, Inc., Newark, Ohio.

Contract Activity: U.S. Army Reserve Center, Fort Snelling, MN.

Service Type/Location: Mess Attendant, 192d FW VA Air National Guard, Sandston, Virginia.

NPA: The Arc of the Virginia Peninsula, Inc., Hampton, Virginia.

Contract Activity: 192d FW VA Air National Guard, Sandston, VA.

Sheryl D. Kennerly,
Director, Information Management.

[FR Doc. 02-8942 Filed 4-11-02; 8:45 am]

BILLING CODE 6353-01-P